ADMINISTRATIVE CONFERENCE OF THE UNITED STATES

Notice of Public Meeting of the Assembly of the Administrative Conference of the United States

AGENCY: Administrative Conference of the United States.

ACTION: Notice.

SUMMARY: The Assembly of the Administrative Conference of the United States (ACUS) will meet during a one-day fully virtual plenary session to consider four proposed recommendations and to conduct other business. Written comments may be submitted in advance, and the meeting will be accessible to the public.

DATES: The meeting will take place on Wednesday, January 21, 2026, from 9:30 a.m.-4:30 p.m. (ET). The meeting may adjourn early if all business is finished.

ADDRESSES: This meeting will be fully virtual for both ACUS members and the public. Information on how the public can access the meeting will be available on the agency's website prior to the meeting at https://www.acus.gov/event/84th-plenary-session. ACUS members will receive member-only access information separately.

FOR FURTHER INFORMATION CONTACT: Shawne McGibbon, General Counsel (Designated Federal Officer), Administrative Conference of the United States, Suite 706 South, 1120 20th Street NW, Washington, DC 20036; Telephone 202-480-2080; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: Subject to approval of the ACUS Council, four proposed recommendations will be placed on the agenda and considered by the Assembly. In addition, there will be updates on past, current, and pending initiatives, as well as other business. Summaries of the recommendations appear below:

Temporary Rules. This proposed recommendation identifies best practices for temporary rules. Temporary rules cease to be effective after a specific calendar date or upon the occurrence of a future event unless an agency takes action to extend the rule, make it permanent, or repeal it. The proposed recommendation provides guidance to agencies on determining whether to issue a temporary rule, drafting and publishing temporary rules, conducting timely assessments of temporary rules and taking appropriate action, and developing internal procedures for temporary rules. It also recommends that Congress consider how specific agencies might use temporary rules to respond efficiently and effectively to emergencies.

Obtaining Government Records for Use in Agency Proceedings. This proposed recommendation provides agencies with best practices for making federal government records available for use in agency proceedings. It provides guidance on procedures for ensuring that government officials and private parties have access to the records they need to participate effectively in agency proceedings and decide matters fairly, accurately, and efficiently.

Federal Agency Collaboration with State, Local, Tribal, and Territorial Governments. This proposed recommendation provides agencies with a framework that federal agencies should use to identify and collaborate more effectively with relevant state, local, tribal, and territorial governments (SLTTGs). It provides guidance on practices agencies can adopt when initiating, managing, and evaluating collaborations with SLTTGs that promote a culture of improved coordination and strengthen working relationships between governments.

Organization, Management, and Operation of Agency Adjudication Offices. This proposed recommendation provides agencies with best practices for organizing, managing, and operating agency adjudication offices. It encourages agencies to collect, analyze, and use data to identify and adopt the organizational, management, and operational practices that are best suited to each agency's unique circumstances and most effective in promoting fairness, accuracy, consistency, efficiency, and timeliness in the adjudications they conduct.

Additional information about the proposals and the agenda, as well as any changes or updates to the same, can be found at the 84th Plenary Session page on ACUS's website prior to the start of the meeting: https://www.acus.gov/event/84th-plenary-session.

Public Participation: The Conference welcomes the virtual attendance of the public at the meeting. A livestream of the meeting can be accessed the morning of the meeting on the 84th Plenary Session web page. A video recording of the meeting will be available on the Conference's website shortly after the conclusion of the event at https://youtube.com/@administrativeconferenceof9987.

Written Comments: Persons who wish to comment on any of the proposed recommendations may do so by submitting a written statement either by email to info@acus.gov with “January 2026 Plenary Session Comments” in the subject line of the email, or by U.S. Mail addressed to: January 2026 Plenary Session Comments, Administrative Conference of the United States, Suite 706 South, 1120 20th Street NW, Washington, DC 20036. Written submissions must be received no later than 10:00 a.m. (ET), Wednesday, January 14, 2026, to ensure consideration by the Assembly.

(Authority: 5 U.S.C. 595)

Dated: December 16, 2025.
Shawne McGibbon,
General Counsel.

[FR Doc. 2025-23299 Filed 12-17-25; 8:45 am]

BILLING CODE 6110-01-P